DEPARTMENT OF THE INTERIOR

Fish and Wildlife Service

[Docket No. FWS-HQ-WSFR-2023-0231; FVWF97820900000-XXX-FF09W13000 and FVWF54200900000-XXX-FF09W13000; OMB Control Number 1018-0088]

Agency Information Collection Activities; National Survey of Fishing, Hunting, and Wildlife-Associated Recreation (FHWAR)

AGENCY: Fish and Wildlife Service, Interior.

ACTION: Notice of information collection; request for comment.

SUMMARY: In accordance with the Paperwork Reduction Act of 1995 (PRA), we, the U.S. Fish and Wildlife Service (Service), are proposing to revise a currently approved information collection.

DATES: Interested persons are invited to submit comments on or before March 4, 2024.

ADDRESSES: Send your comments on the information collection request (ICR) by one of the following methods (please reference OMB Control No. 1018-0088 in the subject line of your comment):

• Internet (preferred): https://www.regulations.gov. Follow the instructions for submitting comments on Docket No. FWS-HQ-WSFR-2023-0231.

• U.S. mail: Service Information Collection Clearance Officer, U.S. Fish and Wildlife Service, 5275 Leesburg Pike, MS: PRB (JAO/3W); Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we are again inviting the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your that your entire comment—including your personal identifying information—may be publicly available at any time. While you can ask us in your comment to withhold your personal identifying information from public review, we cannot guarantee that we will be able to do so.

Abstract: The information collected for the National Survey of Fishing, Hunting and Wildlife-Associated Recreation (FHWAR, or National Survey) assists the Fish and Wildlife Service in administering the Wildlife and Sport Fish Restoration grant programs. The FHWAR, conducted about every 5 years since 1955, is a comprehensive survey of anglers, hunters, and wildlife watchers and includes information on their participation and how much they spend on these activities in the United States. The FHWAR provides up-to-date information on the uses and demands for wildlife-related recreation resources and a basis for developing and evaluating programs and projects to meet existing and future needs.

We collect the information in conjunction with carrying out our responsibilities under the Dingell-Johnson Sport Fish Restoration Act (16 U.S.C. 777-777m) and the Pittman-Robertson Wildlife Restoration Act (16 U.S.C. 669-669i). Under these Acts, we provide approximately $1 billion in grants annually to States for projects that support sport fish and wildlife management and restoration, including:

• Improvement of fish and wildlife habitats,

• Fishing and boating access,

• Fish stocking, and

• Hunting and fishing opportunities.

We also provide grants for aquatic education and hunter education, maintenance of completed projects, and research into problems affecting fish and wildlife resources. These projects help to ensure that the American people have adequate opportunities for fish and wildlife recreation. We conduct the survey about every 5 years. The 2027 FHWAR survey will be the 15th conducted since 1955. We coordinate the survey at the States' request, which is made through the Association of Fish and Wildlife Agencies. We will contract with a data collector to collect the information using internet, telephone, or mail-in paper-and-pencil instrument (PAPI).

Respondents are invited to take the survey with a mailed letter. The data collector will select a sample of sportspersons and wildlife watchers from a household screen and conduct three detailed interviews during the survey year. The survey collects information on the number of days of participation, and expenditures for trips and equipment. Information on the characteristics of participants includes age, income, sex, education, race, and State of residence. The Freshwater/Saltwater Ratio Questionnaire is designed to get freshwater and saltwater fishing data for coastal States. The Service's Wildlife and Sportfish Restoration Program is required to divide fishing management funds according to the ratio of freshwater and saltwater anglers in each coastal State.

Federal and State agencies use information from the survey to make policy decisions related to fish and wildlife restoration and management. Participation patterns and trend information help identify present and future needs and demands. Land management agencies use the data on expenditures and participation to assess the value of wildlife-related recreational uses of natural resources. Wildlife-related recreation expenditure information is used to estimate the impact on the economy and to support the dedication of tax revenues for fish and wildlife restoration programs.

Proposed Revision

Pre-test: Cognitive Interviews—We anticipate the need to conduct web-based cognitive interviews prior to the next FHWAR. The cognitive interviews will enable the research team to identify problems with survey items and with the organization and order of items in the instrument. We expect the data from the cognitive interviews to reveal potential sources of response error in the National Survey and to inform the redesign efforts. The objective of the cognitive interviews is to test and refine the proposed instruments from the full survey, with particular focus on the revised questions on bounding, expenditure reporting, and 5-year recall of activities. We will use the results of this research to refine the survey instruments in preparation for fielding the next National Survey (likely to be held in 2027 or 2028). Respondents will have the option to pause/resume the pretest as they work through the questionnaire.

We anticipate a maximum of 70 respondents will participate in the web-based study. Respondents will be individuals who have participated in fishing, hunting, and wildlife-watching activities in within 1 year of the cognitive interviews. Respondents will be adults ages 18 and over and children ages 16 and 17 who participate with the consent of a parent or guardian. The participants will represent a range of demographic characteristics (e.g., age, gender, education level, State of residence).

We plan to recruit a non-probability sample of respondents for this research. The Association of Fish & Wildlife Agencies will work with State fish and wildlife directors to obtain lists of license holders. The data collector will send an invitation via email or text message to invite license holders to participate in a survey. Further, the data collector will place advertisements on Facebook in selected geographies in order to recruit individuals interested in being interviewed and will disseminate information about the study through word of mouth. People responding to an invitation to participate in the research will complete a brief eligibility screening to determine whether they have recently participated in fishing, hunting, or wildlife watching activities and to collect household composition and demographic information.

Potential participants will also be asked whether other household members would be interested in participating in the study. Adult participants for screener interviews will be household members who would likely complete a screener questionnaire, such as a head of household or adult sportsperson or wildlife watcher. We plan to request that a screener respondent (a respondent who finished the screen interview), or another household member aged 16 and up, who participates in fishing, hunting, or wildlife watching activities, complete the wave questionnaires. In addition, two to three respondents who do not participate in the relevant activities will be recruited for interviews in order to test the functioning of the instruments with non-participants.

Title of Collection: National Survey of Fishing, Hunting, and Wildlife-Associated Recreation (FHWAR).

OMB Control Number: 1018-0088.

Form Number: None.

Type of Review: Revision of a currently approved information collection.

Respondents/Affected Public: Individuals/households.

Respondent's Obligation: Voluntary.

Frequency of Collection: We estimate the pre-test/cognitive interviews to begin in 2025 or 2026. The results will be used to inform the next full survey estimated to be conducted in 2027, or possibly 2028.

Total Estimated Annual Nonhour Burden Cost: None.

Activity | Estimated number of household responses | Median completion time per response (minutes) | Estimated burden hours *
Screener Survey:
Screener: Web | 27,639 | 9 | 4,146
Screener: Phone | 1,000 | 15 | 250
Screener: PAPI | 31,361 | 10 | 5,227
Wave 1 Survey:
Wave Questionnaires: Web | 43,068 | 13 | 9,331
Wave Questionnaires: Phone | 833 | 22 | 305
Wave Questionnaires: PAPI | 6,972 | 14 | 1,627
Wave 2 Survey:
Wave Questionnaires: Web | 32,173 | 13 | 6,971
Wave Questionnaires: Phone | 833 | 22 | 305
Wave Questionnaires: PAPI | 3,645 | 14 | 851
Wave 3 Survey:
Wave Questionnaires: Web | 46,773 | 13 | 10,134
Wave Questionnaires: Phone | 950 | 22 | 348
Wave Questionnaires: PAPI | 11,811 | 14 | 2,756
Wave 3 Coastal Freshwater/Saltwater Ratio Questionnaire | 13,500 | 3 | 675
Pre-test/Cognitive Interviews (NEW) | 70 | 70 | 82
Grand Total | 220,628 |  | 43,008
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-28883 Filed 1-2-24; 8:45 am]

BILLING CODE 4333-15-P